DEPARTMENT OF COMMERCE

International Trade Administration

[A-427-801, A-428-801, A-475-801, A-588-804, A-485-801, A-559-801, A-401-801, A-412-801]

Antifriction Bearings (Other Than Tapered Roller Bearings) and Parts Thereof From France, Germany, Italy, Japan, Romania, Singapore, Sweden, and the United Kingdom; Preliminary Results of Antidumping Duty Administrative Reviews, Partial Rescission of Administrative Reviews, and Notice of Intent to Revoke Orders in Part

AGENCY: Import Administration, International Trade Administration, Department of Commerce.

ACTION: Notice of preliminary results of antidumping duty Administrative reviews, partial rescission of Administrative Reviews, and notice of intent to revoke orders in part.

SUMMARY: In response to requests from interested parties, the Department of Commerce is conducting administrative reviews of the antidumping duty orders on antifriction bearings (other than tapered roller bearings) and parts thereof from France, Germany, Italy, Japan, Romania, Singapore, Sweden, and the United Kingdom. The merchandise covered by these orders are ball bearings and parts thereof, cylindrical roller bearings and parts thereof, and spherical plain bearings and parts thereof. The reviews cover 35 manufacturers/exporters. The period of review is May 1, 1998, through April 30, 1999.

We are rescinding the reviews for 14 other manufacturers/exporters because the requests for reviews of these firms or types of bearings were withdrawn in a timely manner.

We received four requests for revocation of various orders in part. We preliminarily intend to revoke two orders in part and do not preliminary intend to revoke two other orders in part (see Intent to Revoke and Intent Not to Revoke below).

We have preliminary determined that sales have been made below normal value by various companies subject to these reviews. If these preliminary results are adopted in our final results of administrative reviews, we will instruct U.S. Customs to assess antidumping duties on all appropriate entries.

We invite interested parties to comment on these preliminary results. Parties who submit comments in these proceedings are requested to submit with each argument (1) a statement of the issue and (2) a brief summary of the argument.

EFFECTIVE DATE: April 6, 2000.

FOR FURTHER INFORMATION CONTACT: Please contact the appropriate case analysts for the various respondent firms as listed below, at Import Administration, International Trade Administration, U.S. Department of Commerce, Washington, D.C. 20230; telephone: (202) 482-4733.

France

Lyn Johnson (SKF), Georgia Creech (SNFA), Edythe Artman (SNR), Robin Gray, or Richard Rimlinger.

Germany

Mark Ross (Torrington Nadellager), Farah Naim (SKF), Hermes Pinilla (FAG), Suzanne Brower (INA), Edythe Artman (SNR), Thomas Schauer (Paul Müller), Davina Hashmi (MPT), Robin Gray, or Richard Rimlinger.

Italy

Minoo Hatten (SKF), Suzanne Brower (FAG), Georgia Creech (SNFA/Somecat), or Robin Gray.

Japan

J. David Dirstine (Nachi-Fujikoshi, Tsubaki, Koyo), Thomas Schauer (NTN, NSK), Lyn Johnson (NPBS, Nakai Bearing), Sergio Gonzalez (Asahi Seiko, IKS), Stacey King (IJK, Takeshita), Minoo Hatten (Nankai Seiko), Larry Tabash (Osaka Pump), George Callen (KYK), Robin Gray, or Richard Rimlinger.

Romania

Suzanne Brower (TIE), J. David Dirstine (Koyo), or Robin Gray.

Singapore

George Callen (NMB/Pelmec) or Robin Gray.

Sweden

Georgia Creech (SKF) or Robin Gray.

United Kingdom

Hermes Pinilla (FAG, Barden), Georgia Creech (SNFA), Edythe Artman (SNR), Robin Gray, or Richard Rimlinger.

SUPPLEMENTARY INFORMATION:

The Applicable Statute

Unless otherwise indicated, all citations to the Tariff Act of 1930, as amended (the Act), are references to the provisions effective January 1, 1995, the effective date of the amendments made to the Act by the Uruguay Round Agreements Act (URAA). In addition, unless otherwise indicated, all citations to the Department of Commerce's (the Department's) regulations are to 19 CFR part 351 (1999).

Background

On May 15, 1989, the Department published in the Federal Register (54 FR 20909) the antidumping duty orders on ball bearings and parts thereof (BBs), cylindrical roller bearings and parts thereof (CRBs), and spherical plain bearings and parts thereof (SPBs) from France, Germany, Italy, Japan, Romania, Singapore, Sweden, and the United Kingdom. Specifically, these orders cover BBs, CRBs, and SPBs from France, Germany, and Japan, BBs and CRBs from Italy, Sweden, and the United Kingdom, and BBs from Romania and Singapore. On June 30, 1999, in accordance with 19 CFR 351.213, we published a notice of initiation of administrative reviews of these orders (64 FR 35124). The period of review (POR) is May 1, 1998, through April 30, 1999. The Department is conducting these administrative reviews in accordance with section 751 of the Act.

Subsequent to the initiation of these reviews, we received timely withdrawals of the requests we had received for review of Augusta Un'Azienda Finmeccanica (France), AVSA S.A.R.L. (France), Wyko Export (France), NTN (Germany), Wyko Export of Queen Cross (Germany), AVSA S.A.R.L. (Germany), Mannesmann Sachs AG (Germany), Meter S.p.A. (Italy), SNR Roulements (Italy), Augusta Un'Azienda Finmeccanica (Italy), Isuzu Motors (Japan), Wyko Export of Queen Cross (Sweden), NSK Bearings Europe Ltd./RHP Bearings Ltd. (United Kingdom), and Augusta Un'Azienda Finmeccanica (United Kingdom). Because there were no other requests for review of the above-named firms, we are rescinding the reviews with respect to these companies in accordance with 19 CFR 351.213(d).

Scope of Reviews

The products covered by these reviews are antifriction bearings (other than tapered roller bearings) and parts thereof (AFBs) and constitute the following merchandise:

1. Ball Bearings and Parts Thereof: These products include all AFBs that employ balls as the rolling element. Imports of these products are classified under the following categories: antifriction balls, ball bearings with integral shafts, ball bearings (including radial ball bearings) and parts thereof, and housed or mounted ball bearing units and parts thereof.

Imports of these products are classified under the following Harmonized Tariff Schedules (HTSUS) subheadings: 3926.90.45, 4016.93.00, 4016.93.10, 4016.93.50, 6909.19.5010, 8431.20.00, 8431.39.0010, 8482.10.10, 8482.10.50, 8482.80.00, 8482.91.00, 8482.99.05, 8482.99.2580, 8482.99.35, 8482.99.6595, 8483.20.40, 8483.20.80, 8483.50.8040, 8483.50.90, 8483.90.20, 8483.90.30, 8483.90.70, 8708.50.50, 8708.60.50, 8708.60.80, 8708.70.6060, 8708.70.8050, 8708.93.30, 8708.93.5000, 8708.93.6000, 8708.93.75, 8708.99.06, 8708.99.31, 8708.99.4960, 8708.99.50, 8708.99.5800, 8708.99.8080, 8803.10.00, 8803.20.00, 8803.30.00, 8803.90.30, and 8803.90.90.

2. Cylindrical Roller Bearings, Mounted or Unmounted, and Parts Thereof: These products include all AFBs that employ cylindrical rollers as the rolling element. Imports of these products are classified under the following categories: antifriction rollers, all cylindrical roller bearings (including split cylindrical roller bearings) and parts thereof, and housed or mounted cylindrical roller bearing units and parts thereof.

Imports of these products are classified under the following HTSUS subheadings: 3926.90.45, 4016.93.00, 4016.93.10, 4016.93.50, 6909.19.5010, 8431.20.00, 8431.39.0010, 8482.40.00, 8482.50.00, 8482.80.00, 8482.91.00, 8482.99.25, 8482.99.35, 8482.99.6530, 8482.99.6560, 8482.99.70, 8483.20.40, 8483.20.80, 8483.50.8040, 8483.90.20, 8483.90.30, 8483.90.70, 8708.50.50, 8708.60.50, 8708.93.5000, 8708.99.4000, 8708.99.4960, 8708.99.50, 8708.99.8080, 8803.10.00, 8803.20.00, 8803.30.00, 8803.90.30, and 8803.90.90.

3. Spherical Plain Bearings, Mounted and Unmounted, and Parts Thereof: These products include all spherical plain bearings that employ a spherically shaped sliding element and include spherical plain rod ends.

Imports of these products are classified under the following HTSUS subheadings: 3926.90.45, 4016.93.00, 4016.93.10, 4016.93.50, 6909.50.10, 8483.30.80, 8483.90.30, 8485.90.00, 8708.93.5000, 8708.99.50, 8803.10.00, 8803.20.00, 8803.30.00, 8803.90.30, and 8803.90.90.

The size or precision grade of a bearing does not influence whether the bearing is covered by the order. For a detailed discussion of the scope of the orders being reviewed, including a list of scope determinations, see Antifriction Bearings (Other Than Tapered Roller Bearings) and Parts Thereof from France, Germany, Italy, Japan, Romania, Sweden and the United Kingdom; Final Results of Antidumping Duty Administrative Reviews, 64 FR 35590 (July 1, 1999) (AFBs 9). In addition, see Memorandum from Laurie Parkhill to Richard W. Moreland, dated December 13, 1999, and on file in the Central Records Unit (CRU), Main Commerce Building, Room B-099. This memorandum serves to exclude certain parts of a rotation prevention device, manufactured by Sanden International (U.S.A.) Inc., from the order on BBs from Japan. We have also determined that a fan center assembly, which is designed exclusively for and imported for use in the production of a V8 diesel engine produced by DMAX, Ltd., is not within the scope of the order on BBs from Japan. See Memorandum from Laurie Parkhill to Richard W. Moreland, dated March 13, 2000, and on file in the CRU, Room B-099.

Although the HTSUS item numbers are provided for convenience and customs purposes above, written descriptions of the scope of these proceedings remain dispositive.

These reviews cover the following firms and merchandise:

Name of firm | Merchandise
France
SKF France (including all relevant affiliates) | All.
SNFA S.A. (SNFA France) | Ball and Cylindrical.
Societe Nouvelle de Roulements (SNR France) | Ball and Cylindrical.
Germany
FAG Kugelfischer George Schaefer AG (FAG Germany) | Ball and Cylindrical.
INA Walzlager Schaeffler oHG (INA) | All.
MPT Prazisionsteile GmbH Mittweida (MPT) | Cylindrical
Paul M­ller GmbH and Co. KG (Paul M­ller) | Ball.
SKF GmbH (including all relevant affiliates) (SKF Germany) | All.
Societe Nouvelle de Roulements (SNR Germany) | Ball and Cylindrical.
Torrington Nadellager GmbH (Torrington) | All.
Italy
FAG Italia, S.p.A. (including all relevant affiliates) (FAG Italy) | Ball and Cylindrical.
SKF-Industrie, S.p.A. (including all relevant affiliates) (SKF Italy) | Ball.
Somecat, S.p.A./SNFA Bearings Ltd. (Somecat/SNFA) | Ball.
Japan
Asahi Seiko Co., Ltd. (Asahi Seiko) | Ball.
Inoue Jukuuke Kogyo (IJK) | Ball.
Izumoto Seiko Co., Ltd. (IKS) | Ball.
Koyo Seiko Co., Ltd. (Koyo Japan) | All.
Nachi-Fujikoshi Corp. (Nachi) | Ball and Cylindrical.
Nakai Bearing | Ball
Nankai Seiko | Ball.
Nippon Pillow Block Sales Company, Ltd. (NPBS) | Ball.
NSK Ltd. (NSK) | Ball and Cylindrical.
NTN Corp. (NTN) | All.
Osaka Pump | Ball.
Takeshita Seiko (Takeshita) | Ball.
Tottori Yamakai (KYK) | Ball.
Tsubaki-Nakashima Co., Ltd. (formerly Tsubakimoto Precision) (Tsubaki) | Ball.
Romania
Tehnoimportexport, S.A. (TIE) | Ball.
S.C. Koyo Romania S.A. (Koyo Romania) | Ball.
Singapore
NMB Singapore Ltd./Pelmec Industries (Pte.) Ltd. (NMB/Pelmec) | Ball.
Sweden
SKF Sverige (including all relevant affiliates) (SKF Sweden) | Ball and Cylindrical.
United Kingdom
Barden Corporation (Barden) | Ball.
FAG (U.K.) Ltd. (FAG UK) | Ball and Cylindrical.
SNFA (U.K.) Bearings Ltd. (including all relevant affiliates) (SNFA UK) | Ball.
Societe Nouvelle de Roulements (SNR UK) | Ball.

In addition to the above, we have deferred initiation of administrative review of BBs from Japan that are produced by Muro Corporation (Muro). Muro requested deferral of the review pursuant to 19 CFR 351.213(c), and there were no objections to the deferral, in accordance with 19 CFR 351.213(c)(1)(ii).

Verification

As provided in section 782(i) of the Act, we verified information provided by certain respondents using standard verification procedures, including on-site inspection of the manufacturers' facilities, the examination of relevant sales and financial records, and selection of original documentation containing relevant information. Our verification results are outlined in the public versions of the verification reports, which are on file in the CRU, Room B-099.

Use of Facts Available

In accordance with section 776(a) of the Act, we preliminarily determine that the use of facts available as the basis for the weighted-average dumping margin is appropriate for KYK with respect to BBs. This company did not respond to our antidumping questionnaire fully and, consequently, we find that it has not provided “information that has been requested by the administering authority.” However, a third party has submitted information that indicates that KYK is in bankruptcy and is therefore unable to respond to the questionnaire fully. For this reason, we have preliminarily determined not to make an inference that is adverse to KYK's interest. Instead, we have used the average calculated margin for all of the Japanese firms involved in this administrative review of BBs from Japan (see Memorandum from Laurie Parkhill to Richard W. Moreland, dated March 29, 2000, and on file in the CRU, Room B-099). To substantiate the bankruptcy of this firm further, we are requesting assistance from the U.S. embassy in Tokyo. We will examine this matter further between our preliminary and final results of review and, if we are unable to confirm that the firm is in bankruptcy, we will reconsider our decision that KYK is unable to respond to the questionnaire fully.

We preliminarily determine that, in accordance with section 776(a) of the Act, the use of facts available as the basis for the weighted-average dumping margin is appropriate for Osaka Pump with respect to BBs. After reviewing the information submitted by Osaka Pump in response to our requests and after documenting our findings at verification in our report, we have concluded that the information we received from the company was not usable because it was too incomplete to serve as the basis for calculating a dumping margin; hence, we have determined that the use of facts available is warranted for Osaka Pump. At verification we found numerous deficiencies and discrepancies with the response. For example, the company had not reported its U.S. and home-market sales correctly, resulting in the omission of sales in both markets. In addition, we found numerous transaction-specific errors which undermine the reliability of the response as a whole. We explain and elaborate on these and numerous other findings in our verification report dated February 2, 2000, and on file in the CRU, Room B-099.

As a result of Osaka Pump's failed verification, we have determined to apply facts available consistent with section 776(a)(2)(D) of the Act. In light of the factors we considered in making an adverse facts-available determination in the 1994/1995 reviews of these proceedings, we have determined that making an adverse inference in applying facts available is appropriate. See Antifriction Bearings (Other Than Tapered Roller Bearings) and Parts Thereof from France, Germany, Italy, Japan, Romania, Sweden and the United Kingdom; Final Results of Antidumping Duty Administrative Reviews, 62 FR 2081, 2088 (Jan. 15, 1997). First, Osaka Pump participated in the first three reviews of the order on BBs which indicates that it has experience with an antidumping proceeding. Second, Osaka Pump was in control of the data because the data was contained in its records. Therefore, we have concluded that Osaka Pump did not cooperate to the best of its ability.

In accordance with section 776(b) of the Act, we are making an adverse inference in our application of the facts available. As adverse facts available we have applied the highest rate we have calculated for companies under review for this segment of the proceeding. This represents an adverse rate but is not the highest rate ever determined in this proceeding. Therefore, we have preliminarily determined to apply 18.49 percent, a rate we determined for Takeshita for this period, to Osaka Pump's exports to the United States during the POR. We discuss the corroboration of this rate below.

We have found it necessary to use partial facts available in one instance. In this instance, we were unable to use a portion of a response in calculating the dumping margin. For TIE, we discovered a few (less than one percent) unreported transactions at verification. We have preliminarily determined that these unreported transactions constituted a failure by TIE to report all sales. Therefore, we have preliminarily applied adverse partial facts available to these transactions. As adverse partial facts available, we have used the weighted-average dumping margin of 39.61 percent, a rate we calculated for TIE in the original less-than-fair-value (LTFV) investigation. For a discussion of our determination with respect to this matter, see Memorandum from Suzanne Brower to Laurie Parkhill, dated March 28, 2000, and on file in the CRU, Room B-009.

Section 776(c) of the Act provides that the Department shall, to the extent practicable, corroborate secondary information used for facts available by reviewing independent sources reasonably at its disposal. Information from a prior segment of the proceeding or from another company in the same proceeding, such as that we are using here for Osaka Pump and TIE, constitutes secondary information. The Statement of Administrative Action accompanying the URAA, H.R. Doc. 316, Vol. 1, 103d Cong. (1994) (SAA), provides that to “corroborate” means simply that the Department will satisfy itself that the secondary information to be used has probative value. SAA at 870. As explained in Tapered Roller Bearings and Parts Thereof, Finished and Unfinished, from Japan, and Tapered Roller Bearings, Four Inches or Less in Outside Diameter, and Components Thereof, from Japan; Preliminary Results of Antidumping Duty Administrative Reviews and Partial Termination of Administrative Reviews, 61 FR 57391, 57392 (Nov. 6, 1996), to corroborate secondary information, the Department will examine, to the extent practicable, the reliability and relevance of the information used.

Unlike other types of information, such as input costs or selling expenses, there are no independent sources from which the Department can derive calculated dumping margins; the only source for margins is administrative determinations. In an administrative review, if the Department chooses as total adverse facts available a calculated dumping margin from a prior segment of the proceeding or from the same segment of the proceeding, it is not necessary to question the reliability of the margin for that time period.

With respect to the relevance aspect of corroboration, however, the Department will consider information reasonably at its disposal as to whether there are circumstances that would render a margin not relevant. Where circumstances indicate that the selected margin is not appropriate as adverse facts available, the Department will disregard the margin and determine an appropriate margin (see Fresh Cut Flowers from Mexico; Final Results of Antidumping Duty Administrative Review, 61 FR 6812 (Feb. 22, 1996), where the Department disregarded the highest dumping margin as best information available because the margin was based on another company's uncharacteristic business expense resulting in an unusually high margin). There is no evidence of circumstances indicating that the margin we are using as facts available in this review are not appropriate. Therefore, the requirements of section 776(c) of the Act are satisfied.

Intent To Revoke and Intent Not To Revoke

On May 28, 1999, four of the companies taking part in these reviews submitted requests for the revocation, in part, of an antidumping duty order. Torrington requested the revocation of the order covering CRBs from Germany as it pertained to its sales of these bearings. Somecat/SNFA requested the revocation of the order covering BBs from Italy as it pertained to its sales of these bearings. TIE requested the revocation of the order covering BBs from Romania as it pertained to the export of these bearings by TIE. Finally, SNFA France requested the revocation of the order covering BBs from France as it pertained to its sales of these bearings.

Under section 751 of the Act, the Department “may revoke, in whole or in part” an antidumping duty order upon completion of a review. Although Congress has not specified the procedures that the Department must follow in revoking an order, the Department has developed a procedure for revocation that is set forth under 19 CFR 351.222. Under subsection 351.222(b)(2), the Department may revoke an antidumping duty order in part if it concludes that: (1) The company in question has sold the subject merchandise at not less than normal value for a period of at least three consecutive years; (2) it is not likely that the company will in the future sell the subject merchandise at less than normal value; and (3) the company has agreed to immediate reinstatement in the order if the Department concludes that the company, subsequent to the revocation, sold the subject merchandise at less than normal value. Subsection 351.222(b)(3) states that, in the case of an exporter that is not the producer of subject merchandise, the Department normally will revoke an order in part under subsection 351.222(b)(2) only with respect to subject merchandise produced or supplied by those companies that supplied the exporter during the time period that formed the basis for the revocation.

A request for revocation of an order in part must be accompanied by three elements. The company requesting revocation must do so in writing and submit the following statements with the request: (1) The company's certification that it sold the subject merchandise at not less than normal value during the current review period and that, in the future, it will not sell at less than normal value; (2) the company's certification that, during each of the three years forming the basis of the request, it sold the subject merchandise to the United States in commercial quantities; (3) the agreement to reinstatement in the order if the Department concludes that the company, subsequent to revocation, has sold the subject merchandise at less than normal value. See 19 CFR 351.222(e)(1).

Torrington has met the first and third criteria under subsection 351.222(e)(1); however, it did not submit a certification regarding the selling of subject merchandise in commercial quantities during the three years forming the basis of the request. Thus, its request is incomplete. In addition, as a result of our preliminary margin calculations, Torrington had sales of CRBs below normal value during the current review period (see Preliminary Results below). Therefore, even if Torrington had submitted a complete request, it would not have satisfied the criterion under subsection 351.222(b)(2)(i) and we would have determined not to revoke the order as requested.

The request from Somecat/SNFA meets all of the criteria under subsection 351.222(e)(1). However, as with Torrington above, this company had sales of the subject merchandise to which its request pertains below normal value during the current review period (see Preliminary Results below). Thus, it does not meet the criterion under subsection 351.222(b)(2)(i) and we do not intend to revoke the order, in part, on BBs from Italy.

TIE's request meets all of the criteria under subsection 351.222(e)(1). Thus, our analysis turns to whether this company can satisfy the criteria of subsection 351.222(b)(2). The Department first examines whether the requesting company sold the subject merchandise at not less than normal value to the United States in commercial quantities for three consecutive reviews. It then examines whether it is likely that the company would in the future sell the subject merchandise at less than normal value.

Our preliminary margin calculations listed below show that TIE did not sell BBs at less than normal value during the current review period. Furthermore, TIE did not sell the subject merchandise at less than normal value in the two previous consecutive administrative review periods. See AFBs 9 and Antifriction Bearings (Other Than Tapered Roller Bearings) and Parts Thereof from France, Germany, Italy, Japan, Romania, Sweden and the United Kingdom; Final Results of Antidumping Duty Administrative Reviews, 63 FR 33320 (June 18, 1998) (AFBs 8). Thus, we preliminarily find that TIE had zero or de minimis dumping margins for three consecutive reviews.

Second, based upon three consecutive reviews of zero or de minimis margins and in the absence of any other evidence on likelihood, the Department preliminarily determines that dumping is not likely to resume.

Therefore, based on our findings and in accordance with subsection 351.222(b)(3), we preliminarily intend to revoke the antidumping duty order covering BBs from Romania as it pertains to TIE's sales of merchandise from those suppliers which supplied TIE during the time period that formed the basis for the revocation. TIE has requested business proprietary treatment of the names of its suppliers. For a list of the suppliers to which this revocation applies, please see Memorandum from Suzanne Brower to the File, dated March 27, 2000. If these preliminary findings are affirmed in our final results, we will revoke this order, in part, and, in accordance with 19 CFR 351.222(f)(3), we will terminate the suspension of liquidation for any BBs from Romania that are produced by the specific suppliers and exported by TIE entered, or withdrawn from warehouse, for consumption on or after May 1, 1999, and will instruct Customs to refund any cash deposits for such entries.

The request from SNFA France meets all of the criteria under subsection 351.222(e)(1). With regard to the criteria of subsection 351.222(b)(2), our preliminary margin calculations show that SNFA France sold BBs at not less than normal value during the current review period (see rate below). In addition, SNFA France sold the subject merchandise at not less than normal value in the two previous consecutive administrative reviews. See AFBs 9 and AFBs 8. Thus, we preliminarily find that SNFA France had zero or de minimis dumping margins for three consecutive reviews. As in the case of TIE, we preliminarily determine that dumping is not likely to resume based upon the three consecutive reviews of zero or de minimis margins and in the absence of any other evidence on likelihood.

Therefore, we preliminarily intend to revoke the antidumping duty order covering BBs from France as it pertains to the sales of these bearings by SNFA France. If these preliminary findings are affirmed in our final results, we will revoke this order, in part, and, in accordance with 19 CFR 351.222(f)(3), we will terminate the suspension of liquidation for any BBs from France that are exported by SNFA France entered, or withdrawn from warehouse, for consumption on or after May 1, 1999, and will instruct Customs to refund any cash deposits for such entries.

Export Price and Constructed Export Price—Market-Economy Countries

For the price to the United States, we used export price or constructed export price (CEP) as defined in sections 772(a) and (b) of the Act, as appropriate. Due to the extremely large volume of transactions that occurred during the POR and the resulting administrative burden involved in calculating individual margins for all of these transactions, we sampled CEP sales in accordance with section 777A of the Act. When a firm made more than 2,000 CEP sales transactions to the United States for merchandise subject to a particular order, we reviewed CEP sales that occurred during sample weeks. We selected one week from each two-month period in the review period, for a total of six weeks, and analyzed each transaction made in those six weeks. The sample weeks are as follows: May 10-16, 1998; August 9-15, 1998; October 4-10, 1998; December 27, 1998-January 2, 1999; January 24-30, 1999; March 21-27, 1999. We reviewed all export-price sales transactions during the POR.

We calculated export price and CEP based on the packed f.o.b., c.i.f., or delivered price to unaffiliated purchasers in, or for exportation to, the United States. We made deductions, as appropriate, for discounts and rebates. We also made deductions for any movement expenses in accordance with section 772(c)(2)(A) of the Act.

In accordance with section 772(d)(1) of the Act and the Statement of Administrative Action (SAA) accompanying the URAA (at 823-824), we calculated the CEP by deducting selling expenses associated with economic activities occurring in the United States, including commissions, direct selling expenses, indirect selling expenses, and repacking expenses in the United States. When appropriate, in accordance with section 772(d)(2) of the Act, we also deducted the cost of any further manufacture or assembly, except where we applied the special rule provided in section 772(e) of the Act (see below). Finally, we made an adjustment for profit allocated to these expenses in accordance with section 772(d)(3) of the Act.

With respect to subject merchandise to which value was added in the United States prior to sale to unaffiliated U.S. customers, e.g., parts of bearings that were imported by U.S. affiliates of foreign exporters and then further processed into other products which were then sold to unaffiliated parties, we determined that the special rule for merchandise with value added after importation under section 772(e) of the Act applied to all firms, except IKS and NPBS, that added value in the United States.

Section 772(e) of the Act provides that, when the subject merchandise is imported by an affiliated person and the value added in the United States by the affiliated person is likely to exceed substantially the value of the subject merchandise, we shall determine the CEP for such merchandise using the price of identical or other subject merchandise if there is a sufficient quantity of sales to provide a reasonable basis for comparison and we determine that the use of such sales is appropriate. If there is not a sufficient quantity of such sales or if we determine that using the price of identical or other subject merchandise is not appropriate, we may use any other reasonable basis to determine the CEP.

To determine whether the value added is likely to exceed substantially the value of the subject merchandise, we estimated the value added based on the difference between the averages of the prices charged to the first unaffiliated purchaser for the merchandise as sold in the United States and the averages of the prices paid for the subject merchandise by the affiliated purchaser. Based on this analysis, we determined that the estimated value added in the United States by all firms, with the exception of IKS and NPBS, accounted for at least 65 percent of the price charged to the first unaffiliated customer for the merchandise as sold in the United States. (See 19 CFR 351.402(c) for an explanation of our practice on this issue.) Therefore, we preliminarily determine that the value added is likely to exceed substantially the value of the subject merchandise. Also, for the companies in question, we determine that there was a sufficient quantity of sales remaining to provide a reasonable basis for comparison and that the use of these sales are appropriate. Accordingly, for purposes of determining dumping margins for the sales subject to the special rule, we have used the weighted-average dumping margins calculated on sales of identical or other subject merchandise sold to unaffiliated persons.

For IKS and NPBS, we determined that the special rule did not apply because the value added in the United States did not exceed substantially the value of the subject merchandise. Consequently, IKS and NPBS submitted complete section E responses which included the costs of the further processing performed by its U.S. affiliate. Since the majority of the IKS's and NPBS's products sold in the United States were further processed, we analyzed all sales. No other adjustments to export price or CEP were claimed or allowed.

Normal Value—Market-Economy Countries

Based on a comparison of the aggregate quantity of home-market and U.S. sales and absent any information that a particular market situation in the exporting country did not permit a proper comparison, we determined that the quantity of foreign like product sold by all respondents in the exporting country was sufficient to permit a proper comparison with the sales of the subject merchandise to the United States, pursuant to section 773(a) of the Act. Each company's quantity of sales in its home market was greater than five percent of its sales to the U.S. market. Therefore, in accordance with section 773(a)(1)(B)(i) of the Act, we based normal value on the prices at which the foreign like products were first sold for consumption in the exporting country. With respect to MPT and Takeshita, normal value was based on constructed value because the merchandise sold in the United States was not comparable to the merchandise sold in the home market during the POR.

Due to the extremely large number of transactions that occurred during the POR and the resulting administrative burden involved in examining all of these transactions, we sampled sales to calculate normal value in accordance with section 777A of the Act. When a firm had more than 2,000 home-market sales transactions on an order-specific basis, we used sales in sample months that corresponded to the sample weeks that we selected for U.S. CEP sales, sales in the one month prior to the POR, and sales in the month following the POR. The sample months were February, May, August, October, and December of 1998 and January, March, and May of 1999.

We used sales to affiliated customers only where we determined such sales were made at arm's-length prices, i.e., at prices comparable to prices at which the firm sold identical merchandise to unaffiliated customers.

Because we disregarded below-cost sales in accordance with section 773(b) of the Act in the last completed review with respect to SKF France (BBs), SNR France (BBs), INA (all), SKF Germany (all), FAG Germany (BBs, CRBs), FAG Italy (BBs), SKF Italy (BBs), SKF Sweden (BBs), Koyo (BBs), Nachi (BBs, CRBs), NPBS (BBs), NSK (BBs, CRBs), NTN Japan (all), and Barden U.K. (BBs), we had reasonable grounds to believe or suspect that sales of the foreign like product under consideration for the determination of normal value in these reviews may have been made at prices below the cost of production (COP) as provided by section 773(b)(2)(A)(ii) of the Act. Therefore, pursuant to section 773(b)(1) of the Act, we initiated COP investigations of sales by these firms in the home market.

On September 20, 1999, the Department received allegations from SKF USA Inc. and INA USA Corporation that Torrington sold CRBs in Germany at prices below the COP. The parties requested that the Department initiate a cost investigation of Torrington's home-market sales of CRBs. Based on our analysis of the sales-below-cost allegations submitted by SKF USA Inc. and INA USA Corporation, we determined that the allegations provided reasonable grounds to believe or suspect that Torrington's home-market sales were made at prices below their COP. Therefore, we initiated an investigation of sales below COP for Torrington. See Memorandum to Richard W. Moreland, Request to Initiate Cost Investigation for Respondent Torrington Nadellager, October 25, 1999, on file in the CRU, Room B-099.

In accordance with section 773(b)(3) of the Act, we calculated the COP based on the sum of the costs of materials and fabrication employed in producing the foreign like product, the selling, general and administrative (SG&A) expenses, and all costs and expenses incidental to packing the merchandise. In our COP analysis, we used the home-market sales and COP information provided by each respondent in its questionnaire responses. We did not conduct a COP analysis regarding merchandise subject to an antidumping duty order in instances where a respondent reported no U.S. sales or shipments of merchandise subject to that order.

After calculating the COP, in accordance with section 773(b)(1) of the Act, we tested whether home-market sales of AFBs were made at prices below the COP within an extended period of time in substantial quantities and whether such prices permitted the recovery of all costs within a reasonable period of time. We compared model-specific COPs to the reported home-market prices less any applicable movement charges, discounts, and rebates.

Pursuant to section 773(b)(2)(C) of the Act, when less than 20 percent of a respondent's sales of a given product were at prices less than the COP, we did not disregard any below-cost sales of that product because the below-cost sales were not made in substantial quantities within an extended period of time. When 20 percent or more of a respondent's sales of a given product during the POR were at prices less than the COP, we disregarded the below-cost sales because they were made in substantial quantities within an extended period of time pursuant to sections 773(b)(2)(B) and (C) of the Act and because, based on comparisons of prices to weighted-average COPs for the POR, we determined that these sales were at prices which would not permit recovery of all costs within a reasonable period of time in accordance with section 773(b)(2)(D) of the Act. Based on this test, we disregarded below-cost sales with respect to all of the above-mentioned companies and indicated merchandise except where there were no sales or shipments subject to review.

We compared U.S. sales with sales of the foreign like product in the home market. We considered all non-identical products within a bearing family to be equally similar. As defined in the questionnaire, a bearing family consists of all bearings which are the foreign like product that are the same in the following physical characteristics: load direction, bearing design, number of rows of rolling elements, precision rating, dynamic load rating, outer diameter, inner diameter, and width.

Home-market prices were based on the packed, ex-factory or delivered prices to affiliated or unaffiliated purchasers. When applicable, we made adjustments for differences in packing and for movement expenses in accordance with sections 773(a)(6)(A) and (B) of the Act. We also made adjustments for differences in cost attributable to differences in physical characteristics of the merchandise pursuant to section 773(a)(6)(C)(ii) of the Act and for differences in circumstances of sale (COS) in accordance with section 773(a)(6)(C)(iii) of the Act and 19 CFR 351.410. For comparisons to export price, we made COS adjustments by deducting home-market direct selling expenses from and adding U.S. direct selling expenses to normal value. For comparisons to CEP, we made COS adjustments by deducting home-market direct selling expenses from normal value. We also made adjustments, when applicable, for home-market indirect selling expenses to offset U.S. commissions in export-price and CEP calculations.

In accordance with section 773(a)(1)(B)(i) of the Act, we based normal value, to the extent practicable, on sales at the same level of trade as the export price or CEP. If normal value was calculated at a different level of trade, we made an adjustment, if appropriate and if possible, in accordance with section 773(a)(7) of the Act. (See Level of Trade section below.)

In accordance with section 773(a)(4) of the Act, we used constructed value as the basis for normal value when there were no usable sales of the foreign like product in the comparison market. We calculated constructed value in accordance with section 773(e) of the Act. We included the cost of materials and fabrication, SG&A expenses, and profit in the calculation of constructed value. In accordance with section 773(e)(2)(A) of the Act, we based SG&A expenses and profit on the amounts incurred and realized by each respondent in connection with the production and sale of the foreign like product in the ordinary course of trade for consumption in the home market.

When appropriate, we made adjustments to constructed value in accordance with section 773(a)(8) of the Act and 19 CFR 351.410 for COS differences and level-of-trade differences. For comparisons to export price, we made COS adjustments by deducting home-market direct selling expenses from and adding U.S. direct selling expenses to normal value. For comparisons to CEP, we made COS adjustments by deducting home-market direct selling expenses from normal value. We also made adjustments, when applicable, for home-market indirect selling expenses to offset U.S. commissions in export-price and CEP comparisons.

When possible, we calculated constructed value at the same level of trade as the export price or CEP. If constructed value was calculated at a different level of trade, we made an adjustment, if appropriate and if possible, in accordance with sections 773(a)(7) and (8) of the Act. (See Level of Trade section below.)

Level of Trade

To the extent practicable, we determined normal value for sales at the same level of trade as the U.S. sales (either export price or CEP). When there were no sales at the same level of trade, we compared U.S. sales to home-market sales at a different level of trade. The normal-value level of trade is that of the starting-price sales in the home market. When normal value is based on constructed value, the level of trade is that of the sales from which we derived SG&A and profit.

To determine whether home-market sales are at a different level of trade than U.S. sales, we examined stages in the marketing process and selling functions along the chain of distribution between the producer and the unaffiliated customer. If the comparison-market sales were at a different level of trade from that of a U.S. sale and the difference affected price comparability, as manifested in a pattern of consistent price differences between the sales on which normal value is based and comparison-market sales at the level of trade of the export transaction, we made a level-of-trade adjustment under section 773(a)(7)(A) of the Act. See Notice of Final Determination of Sales at Less Than Fair Value: Certain Cut-to-Length Carbon Steel Plate from South Africa, 62 FR 61731 (November 19, 1997).

For a company-specific description of our level-of-trade analysis for these preliminary results, see Memorandum to Laurie Parkhill from Antifriction Bearings Team regarding Level of Trade, dated March 27, 2000, and on file in the CRU, Room B-099.

Methodology for Romania

Separate Rates

It is the Department's policy to assign all exporters of subject merchandise subject to review in a non-market-economy (NME) country a single rate unless an exporter can demonstrate that it is sufficiently independent to be entitled to a separate rate. For purposes of this “separate rates” inquiry, the Department analyzes each exporting entity under the test established in the Final Determination of Sales at Less Than Fair Value: Sparklers from the People's Republic of China, 56 FR 20588 (May 6, 1991) (Sparklers), as amplified in Final Determination of Sales at Less Than Fair Value: Silicon Carbide from the People's Republic of China, 59 FR 22585 (May 2, 1994) (Silicon Carbide). Under this test, exporters in NME countries are entitled to separate, company-specific margins when they can demonstrate an absence of government control over exports, both in law (de jure) and in fact (de facto).

Evidence supporting, though not requiring, a finding of de jure absence of government control includes the following: (1) An absence of restrictive stipulations associated with an individual exporter's business and export licenses; (2) any legislative enactments decentralizing control of companies; and (3) any other formal measures by the government decentralizing control of companies.

De facto absence of government control with respect to exports is based on the following four criteria: (1) Whether the export prices are set by or subject to the approval of a government authority; (2) whether each exporter retains the proceeds from its sales and makes independent decisions regarding the disposition of profits or financing of losses; (3) whether each exporter has autonomy in making decisions regarding the selection of management; (4) whether each exporter has the authority to negotiate and sign contracts. (See Silicon Carbide, 59 FR at 22587.)

We have determined that the evidence of record demonstrates an absence of government control, both in law and in fact, with respect to exports by TIE and Koyo Romania according to the criteria identified in Sparklers and Silicon Carbide. For a discussion of the Department's preliminary determination that TIE and Koyo Romania are entitled to a separate rate, see Memorandum from Suzanne Brower to Laurie Parkhill, Assignment of Separate Rate for Tehnoimportexport: 1998-99 Administrative Review of the Antidumping Duty Order on Antifriction Bearings (Other Than Tapered Roller Bearings) and Parts Thereof From Romania, dated February 25, 2000, and Memorandum from J. David Dirstine to Laurie Parkhill, Assignment of Separate Rate for S.C. Koyo Romania S.A.: 1998-99 Administrative Review of the Antidumping Duty Order on Antifriction Bearings (Other Than Tapered Roller Bearings) and Parts Thereof From Romania, dated February 23, 2000, which are on file in the CRU, Room B-099. Since TIE and Koyo Romania are preliminarily entitled to separate rates and are the only Romanian firms for which administrative reviews have been requested, it is not necessary for us to review any other Romanian exporters of subject merchandise.

Export Price—Romania

For sales made by TIE, we based our margin calculation on export price as defined in section 772(a) of the Act because the subject merchandise was first sold before the date of importation by the exporter of the subject merchandise outside of the United States to unaffiliated purchasers in the United States.

We calculated export price based on the packed price to unaffiliated purchasers in the United States. We made deductions from the price used to establish export price, where appropriate, for foreign inland freight, international freight, and U.S. brokerage and handling. To value foreign inland freight we used the freight rates listed in the attachment to the Memorandum from Suzanne Brower and J. David Dirstine to Laurie Parkhill, Antidumping Duty Order Administrative Review of Antifriction Bearings (Other Than Tapered Roller Bearings) and Parts Thereof from Romania: Selection of the Surrogate Country in the 1998/99 Review (Surrogate-Country Memo), dated March 27, 2000, which is on file in the CRU, Room B-099. We used the actual reported expenses for international freight and U.S. brokerage and handling because the expenses were paid to market-economy suppliers and incurred in market-economy currencies.

Constructed Export Price—Romania

For sales made by Koyo Romania, we used CEP as defined in sections 772(b) of the Act. We used the actual reported expenses for international freight because the expenses were paid to market-economy suppliers and incurred in market-economy currencies. No other adjustments were claimed or allowed.

Normal Value—Romania

For merchandise exported from a NME country, section 773(c)(1) of the Act provides that the Department shall determine normal value using a factors-of-production methodology if available information does not permit the calculation of normal value using home-market or third-country prices under section 773(a) of the Act. In every investigation or review we have conducted involving Romania, we have treated Romania as a NME country. None of the parties to this proceeding has contested such treatment in this review and, therefore, we have maintained our treatment of Romania as an NME country for these preliminary results.

Accordingly, we calculated normal value in accordance with section 773(c) of the Act and 19 CFR 351.408. In accordance with section 773(c)(3) of the Act, the factors of production used in producing AFBs include, but are not limited to, hours of labor required, quantities of raw materials employed, amounts of energy and other utilities consumed, and representative capital cost, including depreciation.

In accordance with section 773(c)(4) of the Act, the Department valued the factors of production, to the extent possible, using the prices or costs of factors of production in market-economy countries which are at a level of economic development comparable to that of Romania and which are significant producers of comparable merchandise. We determined that Indonesia is at a level of economic development comparable to that of Romania. We also found that Indonesia is a producer of bearings. Therefore, we have selected Indonesia as the primary surrogate country. For a further discussion of the Department's selection of surrogate countries, see the Surrogate-Country Memo.

For purposes of calculating normal value, we valued the Romanian factors of production as follows:

• Where direct materials used to produce AFBs were imported by the producers from market-economy countries, we used the import price to value the material input. To value all other direct materials used in the production of AFBs, i.e., those which were sourced from within Romania, we used the import value per metric ton of these materials into Indonesia as published in the 1998 United Nations Trade Commodity Statistics (UNTCS), which includes the most recent published data closest to the months during the POR. We made adjustments to include freight costs incurred between the domestic suppliers and the AFB factories, using freight rates obtained from public documents attached to the Surrogate-Country Memo. We also reduced the steel-input factors to account for the scrap steel that was sold by the producers of the subject merchandise.

• For labor, section 351.408(c)(3) of the Department's regulations requires the use of a regression-based wage rate. We have used the regression-based wage rate on Import Administration's internet website at www.ita.doc.gov/import_admin/records/wages.

• For energy, we used 1997 electricity rates, as adjusted, for Indonesia reported in the publication Energy, Prices and Taxes (2nd Quarter 1999). We based the value of natural gas on 1998 Indonesian prices as reported in Energy, Prices and Taxes (2nd Quarter 1999). See Notice of Preliminary Determination of Sales at Less Than Fair Value and Postponement of Final Determination: Certain Small Diameter Carbon and Alloy Seamless Standard, Line and Pressure Pipe From Romania, 65 FR 5594, 5599 (February 4, 2000) (Steel Pipe).

• For factory overhead, SG&A expenses, and profit, we could not find values for the bearings industry in Indonesia. Therefore, consistent with Steel Pipe, we used surrogate data from one or more of the 1997 financial statements of the following Indonesian companies: P.T. Jaya Pari Steel Ltd. Corporation, P.T. Jakarta Kyoei, and P.T. Krakatau. See attachments to the Surrogate-Country Memo for selected sources for valuing overhead, SG&A expenses, profit, and energy.

• To value packing materials, where materials used to package AFBs were imported into Romania from market-economy countries, we used the import price. To value all other packing materials, i.e., those sourced from within Romania, we used the import value per metric ton of these materials as published in the U.N. Commodity Statistics 1998. We adjusted these values to include freight costs incurred between the domestic suppliers and the AFB factories. To value freight costs, we used the sources used to value freight rates in Steel Pipe. For example, to value truck freight, we used an August 2, 1999, quote from P.T. Batam Samudra Transportation Company in Jakarta. In addition, to value rail rates, we used a December 1994 cable from the American Embassy in Jakarta, Indonesia. See attachment to the Surrogate-Country Memo.

Preliminary Results of Reviews

As a result of our reviews, we preliminarily determine the following weighted-average dumping margins (in percent) for the period May 1, 1998, through April 30, 1999:

Company | Ball | Cylindrical | Spherical plain
France
SKF | 11.43 | (²) | 14.83
SNFA | 0.00 | 0.06 | (³)
SNR | 0.39 | 0.22 | (³)
Germany
FAG | 7.22 | 8.16 | (³)
INA | 18.56 | 4.42 | 0.44
MPT | (³) | 0.00 | (³)
Paul Müller | 0.00 | (³) | (³)
SKF | 6.39 | 7.79 | 5.02
SNR | 5.92 | 2.46 | (³)
Torrington Nadellager | (²) | 61.60 | (²)
Italy
FAG | 2.04 | 1.24 |
SKF | 4.81 | (³) |
Somecat | 5.26 | (²) |
Japan
Asahi Seiko | 0.68 | (³) | (³)
IJK | 13.96 | (³) | (³)
IKS | 9.99 | (³) | (³)
Koyo | 5.39 | 0.92 | 0.00
KYK | 6.49 | (³) | (³)
Nachi | 4.61 | 1.31 | (³)
Nakai Bearing | 4.55 | (³) | (³)
Nankai Seiko | 0.33 | (³) | (³)
NPBS | 2.53 | (³) | (³)
NSK Ltd. | 3.08 | 2.31 | (³)
NTN | 4.59 | 3.39 | 2.59
Osaka Pump | 18.49 | (³) | (³)
Takeshita | 18.49 | (³) | (³)
Tsubaki | 9.72 | (³) | (³)
Romania
Koyo | 0.00
TIE | 0.11 |  |
Singapore
NMB/Pelmec | 1.26 |  |
Sweden
SKF | 2.50 | (¹) |
United Kingdom
Barden Corporation | 2.78 | (¹) |
FAG (U.K.) | (¹) | (¹) |
SNFA | 0.00 | (³) |
SNR | 0.22 | (³) |
¹ No shipments or sales subject to this review. The deposit rate remains unchanged from the last relevant segment of the proceeding in which the firm had shipments/sales.
² No shipments or sales subject to this review. The firm has no individual rate from any segment of this proceeding and will continue to get the all-others deposit rate from the less-than-fair-value investigation.
³ No request for review under section 751(a) of the Act.

Any interested party may request a hearing within 21 days of the date of publication of this notice. A general-issues hearing, if requested, and any hearings regarding issues related solely to specific countries, if requested, will be held in accordance with the following schedule and at the indicated locations in the main Commerce Department building:

Case | Date | Time | Room No.
General issues | May 15, 2000 | 9:00 a.m | 1412
Sweden | May 16, 2000 | 9:00 a.m | 1412
Romania | May 16, 2000 | 2:00 p.m | 1412
Germany | May 17, 2000 | 9:00 a.m | 1412
Italy | May 18, 2000 | 9:00 a.m | 1412
Singapore | May 18, 2000 | 2:00 p.m | 1412
United Kingdom | May 19, 2000 | 9:00 a.m | 1412
France | May 19, 2000 | 2:00 p.m | 1412
Japan | May 22, 2000 | 9:00 a.m | B-841A

Issues raised in hearings will be limited to those raised in the respective case and rebuttal briefs. Case briefs from interested parties and rebuttal briefs, limited to the issues raised in the respective case briefs, may be submitted not later than the dates shown below for general issues and the respective country-specific cases. Parties who submit case or rebuttal briefs in these proceedings are requested to submit with each argument (1) A statement of the issue, and (2) a brief summary of the argument with an electronic version included.

Case | Briefs due | Rebuttals due
General Issues | May 4, 2000 | May 11, 2000.
Sweden | May 5, 2000 | May 12, 2000.
Romania | May 5, 2000 | May 12, 2000.
Germany | May 8, 2000 | May 15, 2000.
Italy | May 9, 2000 | May 16, 2000.
Singapore | May 9, 2000 | May 16, 2000.
United Kingdom | May 10, 2000 | May 17, 2000.
France | May 10, 2000 | May 17, 2000.
Japan | May 11, 2000 | May 18, 2000.

The Department will publish the final results of these administrative reviews, including the results of its analysis of issues raised in any such written briefs or hearings. The Department will issue final results of these reviews within 120 days of publication of these preliminary results.

Assessment Rates

The Department shall determine, and the Customs Service shall assess, antidumping duties on all appropriate entries. In accordance with 19 CFR 351.212(b)(1), we have calculated, whenever possible, an exporter/importer-specific assessment rate or value for subject merchandise.

Export Price Sales

With respect to export-price sales for these preliminary results, we divided the total dumping margins (calculated as the difference between normal value and export price) for each importer/customer by the total number of units sold to that importer/customer. We will direct the Customs Service to assess the resulting per-unit dollar amount against each unit of merchandise in each of that importer's/customer's entries under the relevant order during the review period.

Constructed Export Price Sales

For CEP sales (sampled and non-sampled), we divided the total dumping margins for the reviewed sales by the total entered value of those reviewed sales for each importer. When an affiliated party acts as an importer for export-price sales we have included the applicable export-price sales in this assessment-rate calculation. We will direct the Customs Service to assess the resulting percentage margin against the entered customs values for the subject merchandise on each of that importer's entries under the relevant order during the review period (see 19 CFR 351.212(a)).

Cash-Deposit Requirements

To calculate the cash-deposit rate for each respondent (i.e., each exporter and/or manufacturer included in these reviews) we divided the total dumping margins for each company by the total net value for that company's sales of merchandise during the review period subject to each order.

In order to derive a single deposit rate for each order for each respondent, we weight-averaged the export price and CEP deposit rates (using the export price and CEP, respectively, as the weighting factors). To accomplish this when we sampled CEP sales, we first calculated the total dumping margins for all CEP sales during the review period by multiplying the sample CEP margins by the ratio of total days in the review period to days in the sample weeks. We then calculated a total net value for all CEP sales during the review period by multiplying the sample CEP total net value by the same ratio. Finally, we divided the combined total dumping margins for both export price and CEP sales by the combined total value for both export price and CEP sales to obtain the deposit rate.

Entries of parts incorporated into finished bearings before sales to an unaffiliated customer in the United States will receive the respondent's deposit rate applicable to the order.

Furthermore, the following deposit requirements will be effective upon publication of the notice of final results of administrative reviews for all shipments of AFBs entered, or withdrawn from warehouse, for consumption on or after the date of publication, as provided by section 751(a)(1) of the Act: (1) The cash-deposit rates for the reviewed companies will be the rates established in the final results of reviews; (2) for previously reviewed or investigated companies not listed above, the cash-deposit rate will continue to be the company-specific rate published for the most recent period; (3) if the exporter is not a firm covered in this review, a prior review, or the LTFV investigation, but the manufacturer is, the cash-deposit rate will be the rate established for the most recent period for the manufacturer of the merchandise; and (4) the cash-deposit rate for all other manufacturers or exporters will continue to be the “All Others” rate for the relevant order made effective by the final results of review published on July 26, 1993 (see Antifriction Bearings (Other Than Tapered Roller Bearings) and Parts Thereof From France, et al: Final Results of Antidumping Duty Administrative Reviews and Revocation in Part of an Antidumping Duty Order, 58 FR 39729 (July 26, 1993), and, for BBs from Italy, see Antifriction Bearings (Other Than Tapered Roller Bearings) and Parts Thereof From France, et al: Final Results of Antidumping Duty Administrative Reviews, Partial Termination of Administrative Reviews, and Revocation in Part of Antidumping Duty Orders, 61 FR 66472 (December 17, 1996)). These rates are the “All Others” rates from the relevant LTFV investigations.

These deposit requirements, when imposed, shall remain in effect until publication of the final results of the next administrative reviews.

This notice also serves as a reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

We are issuing and publishing this determination in accordance with sections 751(a)(1) and 777(i)(1) of the Act.

Dated: March 30, 2000.
Robert S. LaRussa,
Assistant Secretary for Import Administration.

[FR Doc. 00-8568 Filed 4-5-00; 8:45 am]

BILLING CODE 3510-DS-P